DEPARTMENT OF LABOR

Employment and Training Administration

[TA-W-54,790]

Bourns Microelectronics Modules, Inc., A Subsidiary Of Bouens, Inc., New Berlin, Wisconsin; Notice of Termination of Investigation

Pursuant to section 221 of the Trade Act of 1974, as amended, an investigation was initiated on April 27, 2004, in response to a petition filed on behalf of workers of Bourns Microelectronics Modules, Inc., a subsidiary of Bourns, Inc, New Berlin, Wisconsin.

The petitioning group of workers is covered by an active certification issued on December 6, 2002, and which remains in effect (TA-W-42,217 as amended). Consequently, further investigation in this case would serve no purpose, and the investigation has been terminated.

Signed at Washington, DC, this 4th day of June, 2004.
Richard Church,
Certifying Officer, Division of Trade Adjustment Assistance.

[FR Doc. 04-13382 Filed 6-14-04; 8:45 am]

BILLING CODE 4510-30-P